DEPARTMENT OF THE INTERIOR

Bureau of Land Management

[NV-030-5700-BX; Closure Notice No. NV-030-04-002]

Notice of Temporary Closure of Public Lands: Washoe County, NV

AGENCY: Bureau of Land Management, Interior.

ACTION: Notice to the public of temporary closure on public lands administered by the Bureau of Land Management, Carson City Field Office, Nevada.

SUMMARY: Pursuant to 43 CFR 8364.1 notice is hereby given that certain public lands will be temporarily closed to all public use located in Washoe County, Nevada. This action is being taken to provide for public safety during the 2004 Pylon Racing Seminar and 2004 Reno National Championship Air Races.

DATES: Closure to all public use from June 17 through June 20, 2004, and September 12 through September 19, 2004 (24 hrs. a day).

ADDRESSES: A map showing these temporary closures, restrictions, and prohibitions is available from the following BLM office:

Carson City Field Office, 5665 Morgan Mill Road, Carson City, Nevada 89701.

FOR FURTHER INFORMATION CONTACT: Charles P. Pope, Assistant Manager, Nonrenewable Resources, Carson City Field Office, 5665 Morgan Mill Road, Carson City, Nevada 89701. Telephone (775) 885-6000.

SUPPLEMENTARY INFORMATION: This closure applies to all public use, including pedestrian use and vehicles.

The public lands affected by this closure are described as follows:

Mt. Diablo Meridian

T. 21 N., R. 19 E.,

Sec. 8, N½NE¼, SE¼NE¼ and E½SE¼;

Sec. 16, N½ and SW¼.

Aggregating approximately 680 acres.

The above restrictions do not apply to emergency or law enforcement personnel or event officials. Persons who violate this closure order are subject to arrest and, upon conviction, may be fined not more than $1,000 and/or imprisoned for not more than 12 months.

Authority: 43 CFR 8364.1.

Dated: April 6, 2004.
Bryant Smith,
Acting Assistant Manager, Nonrenewable Resources, Carson City Field Office.

[FR Doc. 04-11728 Filed 5-24-04; 8:45 am]

BILLING CODE 4310-HC-P